DEPARTMENT OF COMMERCE

National Oceanic and Atmospheric Administration

Proposed Information Collection; Comment Request; Reporting of Sea Turtle Entanglement in Pot Gear Fisheries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 24, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Sara McNulty, (978) 281-9300 ext. 6520 or sara.mcnulty@noaa.gov.

SUPPLEMENTARY INFORMATION:

I. Abstract

This collection of information involves sea turtles becoming accidentally entangled in active or discarded fixed fishing gear. These entanglements may prevent the recovery of endangered and threatened sea turtle populations. The National Marine Fisheries Service (NMFS) has established the Sea Turtle Disentanglement Network to promote reporting and increase successful disentanglement of sea turtles. As there is limited observer coverage of pot gear fisheries, NMFS relies on the U.S. Coast Guard, fishing industry, stranding network, federal, state, and local authorities, and the public for this information. The information provided will help NMFS better assess pot gear fisheries (lobster, whelk/conch, crab, fish trap) and their impacts on sea turtle populations in the northeast region (Maine to Virginia).

II. Method of Collection

Reports are made by telephone, or by fax or email.

III. Data

OMB Number: 0648-0496.

Form Number: None.

Type of Review: Regular submission.

Affected Public: Business or other for-profit organizations; Individuals or households; Not-for-profit institutions; Federal Government; and State, Local or Tribal Government.

Estimated Number of Respondents: 45.

Estimated Time per Response: 60 minutes.

Estimated Total Annual Burden Hours: 45.

Estimated Total Annual Cost to Public: $675.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 20, 2007.
Gwellnar Banks,
Management Analyst, Office of the Chief Information Officer.

[FR Doc. E7-14464 Filed 7-25-07; 8:45 am]

BILLING CODE 3510-22-P